DEPARTMENT OF HOMELAND SECURITY

Coast Guard

[USCG-2010-0127]

National Offshore Safety Advisory Committee; Meeting

AGENCY: Coast Guard, DHS.

ACTION: Notice of meeting.

SUMMARY: The National Offshore Safety Advisory Committee (NOSAC) will meet in New Orleans LA to discuss various issues relating to offshore safety and security. The meeting will be open to the public.

DATES: NOSAC will meet on Thursday, April 8, 2010, from 9 a.m. to 4:00 p.m. This meeting may close early if all business is finished. Written material and requests to make oral presentations should reach the Coast Guard on or before March 25, 2010. Requests to have a copy of your material distributed to each member of the committee should reach the Coast Guard on or before March 25, 2010.

ADDRESSES: NOSAC will meet in the Waterbury Ballroom of the Sheraton Hotel and Conference Center, 500 Canal Street, New Orleans, Louisiana. Send written material and requests to make oral presentations to Commander P.W. Clark, Designated Federal Officer (DFO), Commandant (CG-5222), U.S. Coast Guard, 2100 Second Street, SW., STOP 7126, Washington, DC 20593-7126. This notice is available on our online docket, USCG-2010-0127, at http://www.regulations.gov.

FOR FURTHER INFORMATION CONTACT: Commander P.W. Clark, Designated Federal Officer of NOSAC, or Mr. Kevin Pekarek, Assistant to Designated Federal Officer, telephone 202-372-1410, fax 202-372-1926.

SUPPLEMENTARY INFORMATION: Notice of this meeting is given under the Federal Advisory Committee Act, 5 U.S.C. App. (Pub. L. 92-463).

Agenda of Meeting

The agenda for the April 8, 2010, Committee meeting is as follows:

(1) An update on the Coast Guard's policy with respect to MARPOL Annex II Implementation and IMO Resolution A.673 for Offshore Supply Vessels (OSVs).

(2) Update on the Diving Sub-committee to study the matter of medical treatment of injured divers while working on the OCS.

(3) Discussion of US Coast Guard's planned update of the Hazardous Locations Shipping Regulations in 46 CFR Subpart 111.105 related to electrical installations in hazardous areas and the requested formation of a Task Group.

(4) Brief Updates on the following topics:

(a) The proposed regulations governing the Advanced Notice of Arrival (NOA) for units arriving on the U.S. Outer Continental Shelf (OCS)

(b) Commercial Diving Regulations Report

(c) Dynamic Positioning Best Practices discussion

(d) 46 CFR Subchapter L update

(e) A progress report/discussion of safe lifting operations

(f) 33 CFR Subchapter N update

(g) MODU Crane regulations

(h) Fire Suppression Systems/CO2 NPRM FR Feb. 24, 2010

(5) STCW Convention Update.

(6) Ocean Policy Task Force Presentation.

(7) A discussion on Subsea Pipeline system/Pipeline Mapping from MMS.

(8) National Center of Expertise Offshore Section (Morgan City) will be providing a briefing about the services they provide.

(9) A Report on IMO Issues and Upcoming Meeting Dates for this organization.

Procedural

The meeting is open to the public. Please note that the meeting may close early if all business is finished. At the Chair's discretion, members of the public may make oral presentations during the meeting. If you would like to make an oral presentation at the meeting, please notify the DFO no later than March 25, 2010. Written material for distribution at the meeting should reach the Coast Guard no later than March 25, 2010. If you would like a copy of your material distributed to each member of the committee in advance of the meeting, please submit 25 copies to the DFO no later than March 25, 2010.

Information on Services for Individuals With Disabilities

For information on facilities or services for individuals with disabilities or to request special assistance at the meeting, contact the DFO as soon as possible.

Dated: March 8, 2010.
J.G. Lantz,
Director of Commercial Regulations and Standards.

[FR Doc. 2010-5763 Filed 3-16-10; 8:45 am]

BILLING CODE 9110-04-P